DEPARTMENT OF TRANSPORTATION

Federal Transit Administration

Intent To Prepare an Environmental Impact Statement for Proposed Transit Improvements to the North Red and Purple Lines, Cook County, IL

AGENCY: Federal Transit Administration, U.S. Department of Transportation.

ACTION: Supplemental Notice of Intent to Prepare an Environmental Impact Statement.

SUMMARY: On January 3, 2011, the Federal Transit Administration (FTA), as the lead federal agency, and the Chicago Transit Authority (CTA) published a Notice of Intent (NOI) to prepare an Environmental Impact Statement (EIS) for the North Red and Purple Line Modernization (RPM) Project in Cook County, Illinois. The purpose of this supplemental NOI is to inform interested parties that the EIS will no longer be a Tier 1 EIS as originally proposed. The methodology and format will now be a standard project-level EIS. All other aspects (Location, Purpose and Need, Alternatives, Scoping, and Possible Effects) of the original NOI remain unchanged. Activities conducted to date pursuant to the original NOI will not be impacted or reexamined. The proposed project, described more completely in the January 3, 2011 NOI, would bring the North Red and Purple lines up to a state of good repair from the track structure immediately north of Belmont Station in Chicago to the Linden terminal in Wilmette, Illinois. Materials describing the project purpose and need and the alternatives proposed for analysis are available on the CTA Web site www.transitchicago.com/rpmproject. The CTA operates the rapid transit system in metropolitan Chicago, Illinois.

ADDRESSES: Questions regarding this updated notice or the project may be sent to Mr. Steve Hands, Strategic Planning and Policy, Chicago Transit Authority, 567 W Lake Street, Chicago, IL 60661, or via email at RPM@transitchicago.com. The NOI of January 3, 2011 is available on the internet at http://www.gpo.gov/fdsys/pkg/FR-2011-01-03/pdf/2010-33065.pdf.

FOR FURTHER INFORMATION CONTACT: Mr. Reginald Arkell, Community Planner, Federal Transit Administration, Region V, 200 West Adams Street, Suite 320, Chicago, IL 60606, phone 312-886-3704, email reginald.arkell@dot.gov.

Issued on: July 17, 2012.
Rhonda Reed,
Deputy Regional Administrator.

[FR Doc. 2012-18268 Filed 7-25-12; 8:45 am]

BILLING CODE 4910-57-P